FARM CREDIT ADMINISTRATION

Privacy Act of 1974; System of Records

AGENCY: Farm Credit Administration.

ACTION: Notice of a New System of Records.

SUMMARY: Pursuant to the provisions of the Privacy Act of 1974, notice is hereby given that the Farm Credit Administration (FCA or Agency) is proposing to establish a new system of records. The Non-Payroll Employee Administrative Records System will collect information used for non-payroll personnel actions and human resources administrative purposes, including administering supplemental benefits, employee assistance programs, and work life programs.

DATES: You may send written comments on or before September 21, 2020. The FCA filed a Notice of a New System Report with Congress and the Office of Management and Budget on May 13, 2020. This notice will become effective without further publication on September 29, 2020, unless modified by a subsequent notice to incorporate comments received from the public.

ADDRESSES: We offer a variety of methods for you to submit your comments. For accuracy and efficiency reasons, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA website: http://www.fca.gov. Click inside the “I want to . . .” field, near the top of the page; select “comment on a pending regulation” from the dropdown menu; and click “Go.” This takes you to an electronic public comment form.

• Mail: David Grahn, Director, Office of Regulatory Policy, Farm Credit Administration, 1501 Farm Credit Drive, McLean, VA 22102-5090.

You may review copies of comments we receive at our office in McLean, Virginia, or from our website at http://www.fca.gov. Once you are in the website, click inside the “I want to . . .” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Autumn R. Agans, Privacy Act Officer, Farm Credit Administration, McLean, Virginia 22102-5090, (703) 883-4020, TTY (703) 883-4019.

SUPPLEMENTARY INFORMATION: This publication satisfies the requirement of the Privacy Act of 1974 that agencies publish a system of records notice in the Federal Register when establishing a new system of records.

The new system of records, FCA-19—Non-Payroll Employee Administrative Records System—FCA, will be used to collect and maintain information used for non-payroll personnel actions and for human resources administrative purposes, including administering supplemental benefits, employee assistance programs, and work life programs. These include, but are not limited to retirement, transit subsidies, parking, fitness facilities, classes, wellness seminars, student loan repayment, flexible spending, child care subsidies, flexible work schedules and telecommuting, as well as other similar benefits not otherwise covered as part of the general personnel and administrative records covered by the government-wide system of records notice published by the Office of Personnel Management (OPM/GOVT-1) or those records covered under FCA-1—Employee Attendance, Leave, and Payroll Records—FCA.

As required by 5 U.S.C. 552a(r) of the Privacy Act, as amended, the FCA sent notice of this new system of records to the Office of Management and Budget, the Committee on Oversight and Government Reform of the House of Representatives, and the Committee on Homeland Security and Governmental Affairs of the Senate. The notice is published in its entirety below.

System Name and Number:

FCA-19—Non-Payroll Employee Administrative Records System—FCA.

Security Classification:

Unclassified.

System Location:

Farm Credit Administration, 1501 Farm Credit Drive, McLean, VA 22102-5090.

System Manager:

Director, Office of Agency Services and Chief Human Capital Officer, Farm Credit Administration, 1501 Farm Credit Drive, McLean, VA 22102-5090.

Authority for Maintenance of the System:

12 U.S.C. 2243, 2252.

Purposes of the System:

The purpose of the Non-Payroll Employee Administrative Records System is for the Agency to collect and maintain information used for non-payroll personnel actions and for human resources administrative purposes, including administering supplemental benefits, employee assistance programs, and work life programs.

Categories of Individuals Covered by the System:

Current and former employees, interns, and contracting personnel of the Farm Credit Administration, in addition to other individuals who may make use of FCA's fitness facilities or services.

Categories of Records in the System:

Information may include: (a) Individual name, Social Security number (SSN), employee ID number, Taxpayer Identification Number (TIN), or similar; (b) employment related information including title, position, grade, start date, supervisor's name, performance reports, training, professional licenses, certification and memberships information, whether the employee maintains a security clearance related to his or her position, and disciplinary information; proposed and approved work schedules and alternative work locations; (c) home and work contact information, including address, telephone number, and email address; (d) information about modes of transportation to and from work; (e) information related to an employee's participation in supplemental retirement health and benefit programs, including contribution amount(s), dependents and beneficiary names, addresses, relationship, and Social Security number(s); (f) information about student loans related to the student loan repayment benefit, including type of loan, loan account number, loan holder name and address, total loan amount and amount outstanding; and service agreement information; and (g) receipts and similar documentation provided as evidence of expenditures for reimbursement through supplemental benefits, employee assistance and work life programs.

As noted above, this system covers general personnel and administrative records not otherwise included in OPM/GOVT-1 or FCA-1. This system complements those systems, and in some cases, the notice incorporates by reference but does not repeat all the information contained in those systems.

Record Source Categories:

Information in this system is obtained from current and former FCA employees, interns, and contractors, as well as from any individual who may use FCA's fitness facilities or services, and from entities associated with benefits and work-life programs including retirement, human resources functions, accounting, and payroll systems administration.

Routine Uses of Records Maintained in the System, Including Categories of Users and Purposes of Such Uses:

See the “General Statement of Routine Uses.” The information collected in the system will be used in a manner compatible with the purposes for which the information has been collected and, in addition to the general routine uses, may be disclosed for the following purposes:

1. To carriers, providers, and other federal agencies involved in the administration of employee benefit programs and such agencies' contractors or plan administrators, when necessary to determine employee eligibility to participate in such programs, process employee participation in such programs, audit benefits paid under such programs, or perform any administrative function in connection with those programs; and

2. To Federal, State, and local taxation authorities concerning compensation to employees or to contractors; to the Office of Personnel Management, Department of the Treasury, Department of Labor, and other Federal agencies concerning pay, benefits, and retirement of employees; to financial organizations concerning employee allotments to accounts; to educational and training organizations concerning employee qualifications and identity for specific courses; and to heirs, executors, and legal representatives of beneficiaries.

Disclosure to consumer reporting agencies: None.

Policies and Practices for Storage of Records:

Records are maintained in paper and electronic form. Paper records are maintained in file folders, with sensitive information kept under lock and key, with access limited to those with a need-to-know in support of their official duties. Electronic records are maintained in secure file shares and similar systems with technical access restricted to authorized personnel with a need-to know in support of their duties.

Policies and Practices for Retrieval of Records:

Records are retrievable by a variety of fields including, but not limited to, individual name, SSN, employee ID, or some combination thereof.

Policies and Procedures for Retention and Disposal of Records:

Files are retained in accordance with the FCA's Comprehensive Records Schedule, item 6, or with the applicable National Archives and Records Administration (NARA) General Records Schedules (GRS).

Administrative, Technical, and Physical Safeguards:

FCA implements multiple layers of security to ensure access to records is limited to those with need-to-know in support of their official duties. Paper records are physically safeguarded in a secured environment using locked file rooms, file cabinets, or locked offices and other physical safeguards. Computerized records are safeguarded through use of user roles, passwords, firewalls, encryption, and other information technology security measures.

Record Access Procedures:

To obtain a record, contact: Privacy Act Officer, Farm Credit Administration, 1501 Farm Credit Drive, McLean, VA 22102-5090, as provided in 12 CFR part 603.

Contesting Record Procedures:

Direct requests for amendments to a record to: Privacy Act Officer, Farm Credit Administration, 1501 Farm Credit Drive, McLean, VA 22102-5090, as provided in 12 CFR part 603.

Notification Procedure:

Direct all inquiries about this system of records to: Privacy Act Officer, Farm Credit Administration, McLean, VA 22102-5090.

Exemptions Claimed for the System:

None.

History:

None. This is a new System of Records.

Dated: August 13, 2020.
Dale Aultman,
Secretary, Farm Credit Administration Board.

[FR Doc. 2020-18224 Filed 8-19-20; 8:45 am]

BILLING CODE 6705-01-P